ENVIRONMENTAL PROTECTION AGENCY

[FRL-8490-3]

Reissuance of General NPDES Permits (GPs) for Aquaculture Facilities in Idaho Subject to Wasteload Allocations Under Selected Total Maximum Daily Loads (Permit Number IDG-13-0000), Cold Water Aquaculture Facilities in Idaho (Not Subject to Wasteload Allocations) (Permit Number IDG-13-1000), and Fish Processors Associated With Aquaculture Facilities in Idaho (Permit Number IDG-13-2000)

AGENCY: Environmental Protection Agency.

ACTION: Final notice of issuance of three NPDES general permits.

SUMMARY: On September 27, 2004, a general permit regulating the activities of aquaculture facilities in Idaho and associated on-site fish processors expired. On June 19, 2006, the Director, Office of Water and Watersheds, EPA Region 10, proposed to reissue three general permits to cover facilities covered under the previous permit. EPA provided a public meeting on June 29, 2006 and a public hearing on September 26, 2006, both in Twin Falls, Idaho, in the midst of a 103-day public comment period. On June 7, 2007, the Director reproposed modified draft permits for GPs #IDG130000 and #IDG132000; the 45-day comment period ended on July 23, 2007.

On October 5, 2007, the Idaho Department of Environmental Quality certified under Section 401 of the Clean Water Act that, if the permittees comply with the terms and conditions imposed by the permits, there is reasonable assurance that the discharges will comply with the applicable requirements of the Clean Water Act and Idaho Water Quality Standards.

EPA received 38 comments on the GPs and has prepared a Response to Comments to explain changes made in the permits based on the comments and reasons for not making changes. EPA has determined that each facility that submitted a new Notice of Intent (NOI) after January 1, 2004, will be automatically covered by the GPs. These general permits also will cover some facilities that currently operate under individual permits, thereby terminating the authorization to discharge under the individual permits.

DATES: The GPs will become effective December 1, 2007. The permits will expire November 30, 2012.

ADDRESSES: Copies of the GPs and the Response to Comments may be requested from Audrey Washington, EPA Region 10, 1200 Sixth Avenue, Suite 900, OWW-130, Seattle, WA 98101 or by e-mail to: washington.audrey@epa.gov.

FOR FURTHER INFORMATION CONTACT: Copies of the general permits, fact sheets, and response to comments are available on the EPA Region 10 Web site at http://yosemite.epa.gov/R10/WATER.NSF/NPDES+Permits/General+NPDES+Permits#Aquaculture. They can also be requested by phone from Audrey Washington at (206) 553-0523.

SUPPLEMENTARY INFORMATION:

A. Endangered Species Act

EPA has determined that issuance of the General Permits is not likely to adversely affect threatened or endangered salmonids, designated critical habitat, or essential fish habitat. Reissuance of the processor permit and WLA permit for cold water facilities is likely to adversely affect Utah valvata snail, Snake River physa snail, Bliss Rapids snail, and Banbury Springs lanx. Reissuance of the Wasteload Allocation Permit to four warm water facilities facilities in Gooding and Twin Falls counties is likely to adversely affect the Utah valvata snail, Snake River physa, and Bliss Rapids snail because of the increase in temperature of the receiving streams in the immediate vicinity of these facilities. EPA has determined that issuance of the General Permits will have no affect on any terrestrial threatened or endangered species or their designated critical habitat. Consultation with U.S. Fish and Wildlife Service is ongoing.

B. Executive Order 12866

The Office of Management and Budget has exempted this action from the review requirements of Executive Order 12866 pursuant to Section 6 of that order.

C. Paperwork Reduction Act

The information collection requirements of this permit were previously approved by the Office of Management and Budget (OMB) under the provisions of the Paperwork Reduction Act, 44 U.S.C. 3501 et seq. and assigned OMB control numbers 2040-0086 (NPDES permit application) and 2040-0004 (discharge monitoring reports).

D. Regulatory Flexibility Act

The Regulatory Flexibility Act (RFA), 5 U.S.C. 601 et seq., requires that EPA prepare a regulatory flexibility analysis for rules subject to 5 U.S.C. 553(b) that have a significant impact on a substantial number of small entities. Although general permits are considered to be adjudications and not rules and therefore are not legally subject to the Regulatory Flexibility Act, as a matter of policy EPA is evaluating on an individual basis whether or not a specific general permit would have a significant economic impact on a substantial number of small entities. Upon considering EPA's current guidance, entitled Final Guidance for EPA Rulewriters: Regulatory Flexibility Act as Amended by the Small Business Regulatory Enforcement and Fairness Act, and the fact that each of these general permits affects less than 100 facilities, EPA concludes that these general permits do not have a significant economic impact on a substantial number of small entities and that the RFA does not call for further quantitative analysis of impacts.

E. Unfunded Mandates Reform Act

Section 201 of the Unfunded Mandates Reform Act (UMRA), Public Law 104-4, generally requires Federal agencies to assess the effects of their “regulatory actions” (defined to be the same as “rules” subject to the RFA) on tribal, State, and local governments and the private sector. However, general NPDES permits are not “rules” subject to the requirements of 5 U.S.C. 553(b) and are therefore not subject to the UMRA.

F. Appeal of Permits

Any interested person may appeal the general permits in the Federal Court of Appeals in accordance with Section 509(b)(1) of the Clean Water Act. This appeal must be filed within 120 days after the permit effective date. Persons affected by the permits may not challenge the conditions of the permits in further EPA proceedings (See 40 CFR § 124.19). Instead they may either challenge the permit in court or apply for an individual NPDES permit.

Dated: October 25, 2007.
Christine Psyk,
Associate Director, Office of Water & Watersheds, Region 10, U.S. Environmental Protection Agency.

[FR Doc. E7-21527 Filed 10-31-07; 8:45 am]

BILLING CODE 6560-50-P